DEPARTMENT OF COMMERCE

International Trade Administration

[A-552-812]

Steel Wire Garment Hangers From the Socialist Republic of Vietnam: Final Determination of Sales at Less Than Fair Value and Final Affirmative Determination of Critical Circumstances

AGENCY: Import Administration, International Trade Administration, Department of Commerce.

DATES: Effective Date: December 24, 2012.

SUMMARY: On August 2, 2012, the Department of Commerce (“the Department”) published its notice of preliminary determination of sales at less than fair value (“LTFV”) in the antidumping investigation of steel wire garment hangers from the Socialist Republic of Vietnam (“Vietnam”).¹ We invited interested parties to comment on our Preliminary Determination of sales at LTFV. We continue to determine that steel wire garment hangers from Vietnam are being, or are likely to be, sold in the United States at LTFV as provided in section 735 of the Tariff Act of 1930, as amended (“the Act”). The estimated margins of sales at LTFV are shown in the “Final Determination Margins” section of this notice.

¹ See Steel Wire Garment Hangers From the Socialist Republic of Vietnam: Preliminary Determination of Sales at Less Than Fair Value and Postponement of Final Determination, 77 FR 46044 (August 2, 2012) (“Preliminary Determination”).

FOR FURTHER INFORMATION CONTACT: Irene Gorelik or Robert Palmer, AD/CVD Operations, Office 9, Import Administration, International Trade Administration, U.S. Department of Commerce, 14th Street and Constitution Avenue NW., Washington DC 20230; telephone: (202) 482-6905 or (202) 482-9068, respectively.

SUPPLEMENTARY INFORMATION:

Case History

The Department published its Preliminary Determination on August 2, 2012.² On August 2, 2012, Petitioners³ filed an allegation of critical circumstances.⁴ On August 3, 2012, the TJ Group⁵ filed a letter withdrawing its participation from this investigation.⁶ On August 24, 2012, the Department published its preliminary affirmative determination of critical circumstances.⁷ On August 31, 2012, we received a case brief from Godoxa International LLC and Joobles LLC, two U.S. importers of the merchandise under consideration.⁸ We did not receive case or rebuttal briefs from any other interested parties.

² See id.

³ M&B Metal Products Company, Inc.; Innovative Fabrication LLC/Indy Hanger; and US Hanger Company, LLC.

⁴ See Letter from Petitioners re; Allegation of Critical Circumstances, dated August 2, 2012.

⁵ The TJ Group consists of: the Pre-Supreme Entity, Infinite Industrial Hanger Limited, and TJ Co., Ltd. See, e.g., Preliminary Determination, 77 FR at 46047-48, 46053 n. 109.

⁶ See TJ Group's Letter of Withdrawal, dated August 3, 2012, at 1-2.

⁷ See Steel Wire Garment Hangers from the Socialist Republic of Vietnam: Preliminary Affirmative Determination of Critical Circumstances in the Antidumping Duty Investigation, 77 FR 51514 (August 24, 2012) (“Preliminary Critical Circumstances Determination”).

⁸ See Godoxa's and Joobles' Submission dated August 31, 2012.

Period of Investigation

The period of investigation (“POI”) is April 1, 2011, through September 30, 2011.

Verification

The Department did not verify the information submitted by TJ Group pursuant to section 782(i) of the Act because the TJ Group withdrew its participation after the Preliminary Determination, including from the Department's planned verification. As a result, the Department did not rely upon the TJ Group's submitted information in reaching the final determination.

Analysis of Comments Received

All issues raised in the case brief to this investigation are addressed in the Issues and Decision Memorandum (“Decision Memo”). A list of the issues which parties have raised and to which we have responded in the Decision Memo is attached to this notice as Appendix I. The Decision Memo is a public document and is on file electronically via Import Administration's Antidumping and Countervailing Duty Centralized Electronic Service System (“IA ACCESS”). Access to IA ACCESS is available in the Central Records Unit (“CRU”), room 7046 of the main Department of Commerce building. In addition, a complete version of the Decision Memo can be accessed directly on the Internet at http://www.trade.gov/ia/. The paper copy and electronic version of the Decision Memo are identical in content.

Changes Since the Preliminary Determination

For the final determination, we have based the TJ Group's margin on total adverse facts available (“AFA”) because of its failure to participate and consider it as part of the Vietnam-wide entity, as detailed below. Furthermore, for the final determination, the separate rate has been revised for the non-individually examined respondents that received a preliminary separate rate margin which had been based on the TJ Group's calculated margin.

Scope of Investigation

The merchandise subject to this investigation is steel wire garment hangers, fabricated from carbon steel wire, whether or not galvanized or painted, whether or not coated with latex or epoxy or similar gripping materials, and whether or not fashioned with paper covers or capes (with or without printing) or nonslip features such as saddles or tubes. These products may also be referred to by a commercial designation, such as shirt, suit, strut, caped, or latex (industrial) hangers.

Specifically excluded from the scope of the investigation are (a) Wooden, plastic, and other garment hangers that are not made of steel wire; (b) steel wire garment hangers with swivel hooks; (c) steel wire garment hangers with clips permanently affixed; and (d) chrome plated steel wire garment hangers with a diameter of 3.4 mm or greater.

The products subject to the investigation are currently classified under U.S. Harmonized Tariff Schedule (“HTSUS”) subheadings 7326.20.0020 and 7323.99.9080. Although the HTSUS subheadings are provided for convenience and customs purposes, the written description of the merchandise is dispositive.

Use of Facts Available, Adverse Facts Available, and the Vietnam-Wide Rate

Section 776(a) of the Act provides that if necessary information is not available on the record or if an interested party: (A) Withholds information that has been requested by the Department; (B) fails to provide such information in a timely manner or in the form or manner requested, subject to subsections 782(c)(1) and (e) of the Act; (C) significantly impedes a determination under the antidumping statute; or (D) provides such information but the information cannot be verified, the Department shall, subject to subsection 782(d) of the Act, use facts otherwise available in reaching the applicable determination.

Section 782(c)(1) of the Act provides that if an interested party “promptly after receiving a request {from the Department} for information, notifies {the Department} that such party is unable to submit the information in the requested form and manner, together with a full explanation and suggested alternative form in which such party is able to submit the information,” the Department may modify the requirements to avoid imposing an unreasonable burden on that party.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e) of the Act, disregard all or part of the original and subsequent responses, as appropriate.

Section 782(e) of the Act states that the Department shall not decline to consider information deemed “deficient” under section 782(d) of the Act if: (1) The information is submitted by the established deadline; (2) the information can be verified; (3) the information is not so incomplete that it cannot serve as a reliable basis for reaching the applicable determination; (4) the interested party has demonstrated that it acted to the best of its ability; and (5) the information can be used without undue difficulties.

Furthermore, section 776(b) of the Act states that if the Department finds that an interested party has not acted to the best of its ability to comply with a request for information, the Department may, in reaching its determination, use an inference that is adverse to that party. The adverse inference may be based upon: (1) The petition, (2) a final determination in the investigation under this title, (3) any previous review under section 751 of the Act or determination under section 753 of the Act, or (4) any other information placed on the record.

In this investigation, the Department selected South East Asia Hamico Export Joint Stock Company (“Hamico”) and the TJ Group as mandatory respondents for individual examination.⁹ In the Preliminary Determination, the Department determined that there were exporters/producers of the merchandise under investigation during the POI from Vietnam, including Hamico,¹⁰ that either did not respond to the Department's request for information or failed to provide information that was not available on the record but necessary to calculate an accurate dumping margin. Therefore, pursuant to 776(a)(2)(A) and (B) of the Act, we treated these Vietnamese exporters/producers, including Hamico, as part of the Vietnam-wide entity because they did not qualify for a separate rate.¹¹ Further, we preliminarily found that the Vietnam-wide entity was non-cooperative because certain companies did not respond to our requests for information.¹² As a result, pursuant to section 776(b) of the Act, we preliminarily found that the use of AFA was warranted to determine the Vietnam-wide rate.¹³ As AFA, we preliminarily assigned to the Vietnam-wide entity a rate of 187.51 percent, which was the highest transaction-specific rate calculated for the TJ Group at the Preliminary Determination.¹⁴ Because no information has been placed on the record to contradict our Preliminary Determination, we continue to find, for the final determination, that the application of AFA to the Vietnam-wide entity, including Hamico and the TJ Group, is appropriate.

⁹ See “Memorandum to Christian Marsh, Deputy Assistant Secretary for Antidumping and Countervailing Duty Operations, from James C. Doyle, Director, Office 9; Antidumping Duty Investigation of Steel Wire Garment Hangers from the Socialist Republic of Vietnam: Respondent Selection,” dated February 16, 2012.

¹⁰ We preliminarily found that Hamico failed to provide the information requested by the Department in a timely manner and in the form required, and significantly impeded the Department's ability to calculate an accurate margin. The Department was unable to calculate a margin without the necessary information, requiring the application of facts otherwise available to Hamico for the purpose of the Preliminary Determination. See Preliminary Determination, 77 FR at 46049-51.

¹¹ See id.

¹² See id.

¹³ See id.

¹⁴ See id., 77 FR at 46053.

The TJ Group

As noted above, on August 3, 2012, the TJ group withdrew its participation from this investigation, including the scheduled verification of its books and records. By ceasing to participate in the investigation and withdrawing from the verification of its questionnaire responses, the TJ Group withheld information requested by the Department, failed to provide such information in a timely manner, and prevented the Department from verifying the accuracy of its information as provided by section 782(i) of the Act, pursuant to sections 776(a)(2)(A), (C), and (D) of the Act. These actions also have caused the TJ Group to fail to demonstrate its eligibility for a separate rate.¹⁵ Therefore, for the final determination, the Department finds that the TJ Group is considered to be part of the Vietnam-wide entity (along with Hamico and the companies unresponsive to the Q&V questionnaires).

¹⁵ See section 776(a)(2)(D) of the Act.

The Vietnam-Wide Rate

Because we begin with the presumption that all companies within a non-market economy (“NME”) country are subject to government control, and because only the companies listed under the “Final Determination Margins” section, below, have overcome that presumption, we are applying a single antidumping rate (i.e., the Vietnam-wide rate) to all other exporters of the merchandise under consideration. Consistent with our practice, we find that these other companies did not demonstrate entitlement to a separate rate.¹⁶ The Vietnam-wide rate applies to all entries of merchandise under consideration except for entries from CTN Limited Company, Ju Fu Co., Ltd., and Triloan Hangers, Inc., which are listed in the “Final Determination Margins” section below.

¹⁶ See, e.g., Synthetic Indigo From the People's Republic of China; Notice of Final Determination of Sales at Less Than Fair Value, 65 FR 25706, 25707 (May 3, 2000).

In the Preliminary Determination, the Department determined that, in selecting from among the facts available (“FA”), an adverse inference is appropriate because the Vietnam-wide entity failed to cooperate by not acting to the best of its ability to comply with requests for information.¹⁷ As AFA, we preliminarily assigned to the Vietnam-wide entity a rate of 187.51 percent, the highest transaction-specific rate calculated for the TJ Group.¹⁸ However, since the TJ Group is now part of the Vietnam-wide entity the Department can no longer rely on the TJ Group's highest transaction-specific margin of 187.51 percent as the AFA rate.

¹⁷ See Preliminary Determination, 77 FR at 46049-51.

¹⁸ See id., 77 FR at 46051; see also Statement of Administrative Action accompanying the URAA, H.R. Rep. No. 103-316, vol. 1, at 870 (1994) (“SAA”).

As stated above, the Vietnam-wide entity did not respond to our requests for information and withheld information requested by the Department pursuant to sections 776(a)(2)(A) and (B) of the Act. Because the Vietnam-wide entity now also includes the TJ Group, we also find that the Vietnam-wide entity withheld information requested by the Department, significantly impeded the Department's proceeding, and refused to allow verification of its data, pursuant to sections 776(a)(2)(A), (C), and (D) of the Act. Therefore, we determine, as in the Preliminary Determination, that the use of facts otherwise available is appropriate to determine the Vietnam-wide rate.

Selection of the Adverse Facts Available Rate

As noted above, section 776(b) of the Act provides that, in selecting from among the facts otherwise available, the Department may employ an adverse inference if an interested party fails to cooperate by not acting to the best of its ability to comply with requests for information. As outlined above, the Vietnam-wide entity withheld information requested by the Department, failed to provide such information in a timely manner, significantly impeded the Department's proceeding, and refused to allow verification of its data, pursuant to sections 776(a)(2)(A), (B), (C), and (D) of the Act. For these reasons, we find that the Vietnam-wide entity has failed to cooperate to the best of its ability and that it is appropriate, in selecting from among the facts otherwise available, to determine an adverse inference for the Vietnam-wide entity.

In selecting a rate for AFA, the Department selects a rate that is sufficiently adverse to ensure that the uncooperative party does not obtain a more favorable result by failing to cooperate than if it had fully cooperated. It is the Department's practice to select, as AFA, the higher of the (a) highest margin alleged in the petition, or (b) the highest calculated rate of any respondent in the investigation.¹⁹ Because there are no longer any mandatory respondents on whose information we can rely, consistent with our practice, we determine that the appropriate rate to select as AFA is 220.68 percent, the highest margin alleged in the Petition.²⁰

¹⁹ See Preliminary Determination, 77 FR at 46050 n.79; see also Final Determination of Sales at Less Than Fair Value: Certain Cold-Rolled Carbon Quality Steel Products from the People's Republic of China, 65 FR 34660 (May 21, 2000) and accompanying Issues and Decision Memorandum at Comment 1; Circular Welded Austenitic Stainless Pressure Pipe, 74 FR at 4915; Certain Circular Welded Carbon Quality Steel Line Pipe from the People's Republic of China: Final Determination of Sales at Less Than Fair Value, 74 FR 14514, 14515 (March 31, 2009) (“Circular Welded Carbon Quality Steel Pipe”).

²⁰ See Steel Wire Garment Hangers From the Socialist Republic of Vietnam and Taiwan: Initiation of Antidumping Duty Investigations, 77 FR 3731, 3735 (“Initiation Notice”) (where the Department stated that “the estimated dumping margins for steel wire garment hangers from Vietnam range from 117.48 percent to 220.68 percent.”); see also “Antidumping Duty Investigation Initiation Checklist: Steel Wire Garment Hangers from Vietnam” (“Initiation Checklist”) at 9 and Appendix V.; and “Petitions for the Imposition of Antidumping Duties on Steel Wire Garment Hangers From Taiwan and Antidumping and Countervailing Duties on Steel Wire Garment Hangers from the Socialist Republic of Vietnam,” filed on December 29, 2011 (the “Petition”).

Corroboration

Section 776(c) of the Act provides that, when the Department relies on secondary information, rather than on information obtained in the course of an investigation as facts available, it must, to the extent practicable, corroborate that information from independent sources reasonably at its disposal. Secondary information is described in the SAA as “information derived from the petition that gave rise to the investigation or review, the final determination concerning subject merchandise, or any previous review under Section 751 concerning the subject merchandise.”²¹ The SAA provides that to “corroborate” means simply that the Department will satisfy itself that the secondary information to be used has probative value.²² The SAA also states that independent sources used to corroborate may include, for example, published price lists, official import statistics and customs data, and information obtained from interested parties during the particular investigation.²³ To corroborate secondary information, the Department will, to the extent practicable, examine the reliability and relevance of the information used.²⁴

²¹ See SAA at 870.

²² See id.

²³ See id.

²⁴ See Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996), unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825 (March 13, 1997).

At the Preliminary Determination, as AFA, we preliminarily assigned to the Vietnam-wide entity a rate of 187.51 percent, the highest transaction-specific rate calculated for the TJ Group.²⁵ However, since that rate is no longer reliable, the Department has determined to rely on the highest Petition²⁶ margin of 220.68 percent to assign, as AFA, to the Vietnam-wide entity.

²⁵ See Preliminary Determination, 77 FR at 46051; see also SAA at 870.

²⁶ See Initiation Notice, 77 FR at 3735 (where the Department stated that “the estimated dumping margins for steel wire garment hangers from Vietnam range from 117.48 percent to 220.68 percent.”); see also Initiation Checklist at 9 and Appendix V; and the Petition.

For the final determination, because there were no margins calculated for the mandatory respondents, to corroborate the 220.68 percent margin used as AFA for the Vietnam-wide entity, to the extent appropriate information was available, we are affirming our pre-initiation analysis of the adequacy and accuracy of the information in the Petition.²⁷ During our pre-initiation analysis, we examined evidence supporting the calculations in the Petition and the supplemental information provided by Petitioners prior to initiation to determine the probative value of the margins alleged in the Petition. During our pre-initiation analysis, we examined the information used as the basis of export price and normal value (“NV”) in the Petition, and the calculations used to derive the alleged margins. Also during our pre-initiation analysis, we examined information from various independent sources provided either in the Petition or, based on our requests, in supplements to the Petition, which corroborated key elements of the export price and NV calculations.²⁸ For the final determination, we have corroborated our AFA margin by re-examining and affirming our pre-initiation analysis. Moreover, we have found no record evidence that contradicts our conclusion. Additionally, no parties commented on the selection of the Vietnam-wide rate. Therefore, we continue to find that the margin of 220.68 percent has probative value. Accordingly, we find that the rate of 220.68 percent is corroborated within the meaning of section 776(c) of the Act.

²⁷ See Initiation Notice, 77 FR at 3731, 3735; see also Initiation Checklist at 9 and Appendix V and the Petition.

²⁸ See id.

Separate Rates

In proceedings involving NME countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate.²⁹

²⁹ See Final Determination of Sales at Less Than Fair Value: Sparklers From the People's Republic of China, 56 FR 20588 (May 6, 1991) (“Sparklers”), as amplified by Notice of Final Determination of Sales at Less Than Fair Value: Silicon Carbide from the People's Republic of China, 59 FR 22585 (May 2, 1994) (“Silicon Carbide”); see also 19 CFR 351.107(d).

In the Preliminary Determination, we found that CTN Limited Company, Ju Fu Co., Ltd., and Triloan Hangers, Inc., demonstrated their eligibility for, and were hence assigned, separate rate status. No party has commented on the eligibility of these companies for separate rate status. Therefore, for the final determination, we continue to find that the evidence placed on the record of this investigation by these companies demonstrates both a de jure and de facto absence of government control with respect to their exports of the merchandise under investigation. Thus, we continue to find that they are eligible for separate rate status.

Calculation of Separate Rate

As stated in the Preliminary Determination, the statute and our regulations do not address directly how we should establish a rate to apply to imports from companies which we did not select for individual examination in accordance with section 777A(c)(2) of the Act in a NME investigation.³⁰ Generally, we have used section 735(c)(5) of the Act, which provides instructions for calculating the all-others rate in a market economy (“ME”) investigation, as guidance when we establish the rate for respondents not examined individually in a NME investigation.³¹ Section 735(c)(5)(A) of the Act provides that “the estimated all-others rate shall be an amount equal to the weighted average of the estimated weighted-average dumping margins established for exporters and producers individually investigated * * *.” However, section 735(c)(5)(B) of the Act provides that if the estimated weighted-average margins for all individually investigated respondents are de minimis or based entirely on FA, the Department may use any reasonable method to determine the separate rate margin.

³⁰ See Preliminary Determination, 77 FR at 46049.

³¹ See, e.g., Crystalline Silicon Photovoltaic Cells, Whether or Not Assembled Into Modules, From the People's Republic of China: Final Determination of Sales at Less Than Fair Value, and Affirmative Final Determination of Critical Circumstances, in Part, 77 FR 63791, 63794 (Oct. 17, 2012).

In this final determination, the rates assigned to the mandatory respondents are based entirely upon FA. Consequently, pursuant to section 735(c)(5)(B) of the Act, we have determined the separate rate margin using a reasonable method that is consistent with our established practice. Specifically, we have assigned to the separate rate respondents the simple average of all of the margins alleged in the Petition,³² as noted in the Initiation Notice,³³ which is 157.00 percent.³⁴

³² See the Petition.

³³ See Initiation Notice, 77 FR at 3731.

³⁴ See, e.g., Aluminum Extrusions From the People's Republic of China: Final Determination of Sales at Less Than Fair Value, 76 FR 18524, 18525 (April 4, 2011) (“For the final determination, we have assigned the 29 separate rate applicants to whom we are granting a separate rate a dumping margin of 32.79 percent, based on the simple average of the margins alleged in the petition * * *”); see also Notice of Final Determination of Sales at Less Than Fair Value and Affirmative Final Determination of Critical Circumstances: Circular Welded Carbon Quality Steel Pipe From the People's Republic of China, 73 FR 31970, 31971-31972 (June 5, 2008) (“* * * we have assigned to the separate rate companies the simple average of the margins alleged in the petition.”); see also Final Determination of Sales at Less Than Fair Value: Sodium Hexametaphosphate From the People's Republic of China, 73 FR 6479, 6480-6481 (February 4, 2008) (“Specifically, we have assigned an average of the margins calculated for purposes of initiation as the separate rate for the final determination.”).

Critical Circumstances

On August 2, 2012, Petitioners submitted an allegation of critical circumstances with respect to the merchandise under consideration. On August 24, 2012, we issued the Preliminary Critical Circumstances Determination, stating that we had reason to believe or suspect critical circumstances exist with respect to imports of steel wire garment hangers from Vietnam. For the final determination, we are affirming our preliminary affirmative determination of critical circumstances and continue to find that critical circumstances exist with respect to imports of steel wire garment hangers from Vietnam.³⁵

³⁵ See Decision Memo at Comment 1.

Final Determination Margins

We determine that the following margins exist for the following entities for the POI: ³⁶

³⁶ The Vietnam-wide entity includes South East Asia Hamico Export Joint Stock Company, the TJ Group (consisting of the Pre-Supreme Entity, Infinite Industrial Hanger Limited, and TJ Co., Ltd.) and the following companies: Acton Co., Ltd.; Angang Clothes Rack Manufacture Co.; Asmara Home Vietnam; B2B Co., Ltd.; Capco Wai Shing Viet Nam Co., Ltd.; Dai Nam Investment JSC; Diep Son Hangers One Member Co. Ltd.; Dong Nam A Co., Ltd.; Dong Nam A Trading Co.; EST Glory Industrial Ltd.; Focus Shipping Corp.; Godoxa Viet Nam Ltd.; HCMC General Import And Export Investment JSC; Hongxiang Business And Product Co., Ltd.; Linh Sa Hamico Company, Ltd.; Minh Quang Steel Joint Stock Company; Moc Viet Manufacture Co., Ltd.; Nam A Hamico Export Joint Stock; N-Tech Vina Co., Ltd.; NV Hanger Co., Ltd. (A/K/A Nguyen Hoang Vu Co., Ltd.); Ocean Star Transport Co., Ltd.; Quoc Ha Production Trading Service; Quyky (Factory); Quyky Group/Quyky Co., Ltd./Quyky-Yanglei International Co., Ltd.; S.I.I.C.; Tan Minh Textile Sewing Trading Co., Ltd.; Thanh Hieu Manufacturing Trading Co. Ltd.; The Xuong Co., Ltd.; Thien Ngon Printing Co., Ltd.; Top Sharp International Trading Limited; Trung Viet My Joint Stock Company; Viet Anh Imp-Exp Joint Stock Co.; Viet Hanger Investment, LLC/Viet Hanger; Vietnam Hangers Joint Stock Company; VNS/VN Sourcing/Vietnam Sourcing; and Yen Trang Co., Ltd.

Exporter | Producer | Margin (percent)
CTN Limited Company | CTN Limited Company | 157.00
Ju Fu Co., Ltd | Ju Fu Co., Ltd | 157.00
Triloan Hangers, Inc | Triloan Hangers, Inc | 157.00
Vietnam-Wide Entity ³⁶ | 220.68

Disclosure

We will disclose the calculations performed within five days of the date of publication of this notice to parties in this proceeding in accordance with 19 CFR 351.224(b).

Continuation of Suspension of Liquidation

As noted above, the Department found that critical circumstances exist with respect to imports of merchandise under consideration from the Vietnam-wide entity and the separate rate recipients, CTN Limited Company, Ju Fu Co., Ltd., and Triloan Hangers, Inc. In accordance with section 735(c)(1)(B) of the Act, the Department will instruct U.S. Customs and Border Protection (“CBP”) to continue to suspend liquidation of all appropriate entries of subject merchandise, as described in the “Scope of Investigation” section of this notice, from the separate rate recipients and the Vietnam-wide entity that were entered, or withdrawn from warehouse for consumption on or after the date 90 days prior to the publication in the Federal Register of the Preliminary Determination.

Further, the Department will instruct CBP to require a cash-deposit equal to the weighted-average amount by which the normal value exceeds U.S. price, adjusted where appropriate for export subsidies, as follows: (1) The rate for the exporter/producer combinations listed in the table above will be the rate we have determined in this final determination; (2) for all Vietnamese exporters of merchandise under consideration which have not received their own rate, the cash-deposit rate will be the Vietnam-wide rate; and (3) for all non-Vietnamese exporters of merchandise under consideration which have not received their own rate, the cash-deposit rate will be the rate applicable to the Vietnamese exporter/producer combination that supplied that non-Vietnamese exporter. These cash-deposit instructions will remain in effect until further notice.

ITC Notification

In accordance with section 735(d) of the Act, we have notified the International Trade Commission (“ITC”) of our final determination of sales at LTFV. As our final determination is affirmative, in accordance with section 735(b)(2) of the Act, within 45 days the ITC will determine whether the domestic industry in the United States is materially injured, or threatened with material injury, by reason of imports or sales (or the likelihood of sales) for importation of the merchandise under investigation. If the ITC determines that material injury or threat of material injury does not exist, the proceeding will be terminated and all securities posted will be refunded or canceled. If the ITC determines that such injury does exist, the Department will issue an antidumping duty order directing CBP to assess antidumping duties on all imports of the merchandise under investigation entered, or withdrawn from warehouse, for consumption on or after the effective date of the suspension of liquidation.

Notification Regarding APO

This notice also serves as a reminder to the parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation.

This determination and notice are issued and published in accordance with sections 735(d) and 777(i)(1) of the Act.

Dated: December 17, 2012.
Paul Piquado,
Assistant Secretary for Import Administration.

Appendix I

Comment 1: The Department's Preliminary Affirmative Determination of Critical Circumstances

[FR Doc. 2012-30951 Filed 12-21-12; 8:45 am]

BILLING CODE 3510-DS-P